Title 3—

The President

Proclamation 9947 of October 10, 2019

General Pulaski Memorial Day, 2019

By the President of the United States of America

A Proclamation

On General Pulaski Memorial Day, we remember Brigadier General Casimir Pulaski, the great Polish hero who fought and died in America's noble pursuit of freedom during the Revolutionary War. We honor his bravery and unwavering commitment to liberty and self-government, and we pay tribute to the abiding friendship between the United States and Poland, which has prevailed since General Pulaski took up the sword on behalf of the American cause and helped forge our young Republic.

Throughout his military career, General Pulaski was renowned for his gallantry and skill on the battlefield. He fought courageously against the Russian Empire as Poland sought to secure its own freedom from foreign tyranny in the anti-Russian insurrection of 1768. Later, in 1777, that same conviction impelled him to journey to the United States and join General George Washington's Continental Army. At the Battle of Brandywine, Pulaski successfully covered the retreat of Washington's troops and saved the life of the future first President of the United States. To show his gratitude, Washington promoted Pulaski to Brigadier General and entrusted him to lead his own independent cavalry unit, “the Pulaski Legion,” which included both American and foreign-born soldiers. This famous and formidable fighting force cemented Pulaski's status as the “Father of the American Cavalry.”

On October 11, 1779, Pulaski made the ultimate sacrifice for our Nation when he succumbed to battle wounds that were inflicted during an attempt to retake the city of Savannah from British forces two days earlier. Although he did not live to see the British surrender at Yorktown, his indispensable role in advancing the American quest for self-governance is uniquely part of our country's history. His undaunted spirit will forever be preserved in the hearts of those who take up the fight for liberty.

General Pulaski's tremendous legacy of fighting for freedom and democratic principles continues to inspire us today. His name is forever enshrined next to such luminaries as Winston Churchill and Mother Theresa as one of eight individuals in the history of our country to have received the distinction of Honorary Citizen from the Congress of the United States.

As we celebrate General Pulaski as a great hero of our Nation, we are reminded of the bonds that unite the United States and Poland. The longstanding and enduring friendship of our two countries is strengthened and renewed each day by the more than 9 million people of Polish descent who are citizens of the United States. We greatly cherish the cultural, economic, and security ties that bind us, and we look forward to a fruitful relationship in the years and decades to come.

NOW, THEREFORE, I, DONALD J. TRUMP, President of the United States of America, by virtue of the authority vested in me by the Constitution and the laws of the United States, do hereby proclaim October 11, 2019, as General Pulaski Memorial Day. I encourage all Americans to commemorate on this occasion those who have contributed to the furthering of our Nation.

IN WITNESS WHEREOF, I have hereunto set my hand this tenth day of October, in the year of our Lord two thousand nineteen, and of the Independence of the United States of America the two hundred and forty-fourth.

[FR Doc. 2019-22745

Filed 10-15-19; 11:15 am]

Billing code 3295-F0-P